DEPARTMENT OF ENERGY

Federal Energy Regulatory Commission

[Project No. 14537-001]

Antrim Treatment Trust; Notice of Application Tendered For Filing With the Commission and Soliciting Additional Study Requests

Take notice that the following hydroelectric application has been filed with the Commission and is available for public inspection.

a. Type of Application: Original Minor License.

b. Project No.: 14537-001.

c. Date filed: December 12, 2013.

d. Applicant: Antrim Treatment Trust.

e. Name of Project: Antrim Micro-Hydropower Project.

f. Location: The project would utilize diverted water from an existing pond that collects acidic mine discharge from abandoned mines located in Duncan Township, Tioga County, Pennsylvania. The project would be located on lands owned by the applicant and would not occupy any federal lands.

g. Filed Pursuant to: Federal Power Act 16 U.S.C. 791(a)-825(r).

h. Applicant Contact: Margaret H. Dunn, Biomost, Inc., 434 Spring Street Ext., Mars, PA 16046. Phone: (724) 776-0161.

i. FERC Contact: Monir Chowdhury, (202) 502-6736 or monir.chowdhury@ferc.gov.

j. Cooperating agencies: Federal, state, local, and tribal agencies with jurisdiction and/or special expertise with respect to environmental issues that wish to cooperate in the preparation of the environmental document should follow the instructions for filing such requests described in item l below. Cooperating agencies should note the Commission's policy that agencies that cooperate in the preparation of the environmental document cannot also intervene. See, 94 FERC ¶ 61,076 (2001).

k. Pursuant to section 4.32(b)(7) of 18 CFR of the Commission's regulations, if any resource agency, Indian Tribe, or person believes that an additional scientific study should be conducted in order to form an adequate factual basis for a complete analysis of the application on its merit, the resource agency, Indian Tribe, or person must file a request for a study with the Commission not later than 60 days from the date of filing of the application, and serve a copy of the request on the applicant.

l. Deadline for filing additional study requests and requests for cooperating agency status: February 10, 2014.

The Commission strongly encourages electronic filing. Please file additional study requests and requests for cooperating agency status using the Commission's eFiling system at http://www.ferc.gov/docs-filing/efiling.asp. For assistance, please contact FERC Online Support at FERCOnlineSupport@ferc.gov, (866) 208-3676 (toll free), or (202) 502-8659 (TTY). In lieu of electronic filing, please send a paper copy to: Secretary, Federal Energy Regulatory Commission, 888 First Street NE., Washington, DC 20426. The first page of any filing should include docket number P-14537-001.

m. The application is not ready for environmental analysis at this time.

n. The Antrim Micro-Hydropower Project would consist of the following existing features: (1) A 0.25-acre-foot collection pond; (2) a 12-inch-diameter, 435-foot-long polyvinyl chloride (PVC) pipe that conveys raw water from the collection pond to a 60-foot-diameter concrete clarifier with a capacity of 33,500 cubic feet in a treatment plant,¹ (3) a 12-inch-diameter, 143-foot-long high-density polyethylene (HDPE) pipe to convey treated water from the treatment plant to a forebay; (4) a 12-inch-diameter, 155-foot-long HDPE pipe connected to the 12-inch-diameter PVC pipe to bypass raw water to the forebay during high flow conditions or plant maintenance; (5) a forebay with a net storage capacity of 6,000 cubic feet; (6) an 18-inch-diameter, 972-foot-long penstock from the forebay to the powerhouse; (7) a powerhouse with two identical impulse turbine-generator units with a combined rated capacity of 40 kilowatts; (8) a 75-foot-long tailrace to convey flows from the powerhouse to an unnamed tributary to Bridge Run; (9) a 1,300-foot-long, 460-volt buried transmission line; and (10) appurtenant facilities. The project is estimated to generate an average of 250 megawatt-hours annually.

¹ There are various other facilities in the treatment plant, but they are not necessary for the hydropower purposes.

The applicant currently operates one turbine as an off-grid project, and proposes to bring the other turbine (currently in place but non-operational) online by additional indoor wiring within the existing powerhouse and the treatment plant, and operate both turbines as a grid-connected project.

o. A copy of the application is available for review at the Commission in the Public Reference Room or may be viewed on the Commission's Web site at http://www.ferc.gov using the “eLibrary” link. Enter the docket number excluding the last three digits in the docket number field to access the document. For assistance, contact FERC Online Support. A copy is also available for inspection and reproduction at the address in item h above.

You may also register online at http://www.ferc.gov/docs-filing/esubscription.asp to be notified via email of new filings and issuances related to this or other pending projects. For assistance, contact FERC Online Support.

p. With this notice, we are initiating consultation with the Pennsylvania State Historic Preservation Officer (SHPO), as required by section 106 of the National Historic Preservation Act and the regulations of the Advisory Council on Historic Preservation, 36 CFR 800.4.

q. Procedural schedule: The application will be processed according to the following preliminary Hydro Licensing Schedule. Revisions to the schedule will be made as appropriate (e.g., if scoping is waived, the schedule would be shortened).

Issue Notice of Acceptance | March 2014.
Issue Scoping Document | April 2014.
Issue Notice of Ready for Environmental Analysis | May 2014.
Commission issues EA | October 2014.

Dated: December 24, 2013.
Kimberly D. Bose,
Secretary.

[FR Doc. 2013-31339 Filed 12-31-13; 8:45 am]

BILLING CODE 6717-01-P